SECURITIES AND EXCHANGE COMMISSION

[Release No. 34-48936; File No. SR-PCX-2003-32]

Self-Regulatory Organizations; Pacific Stock Exchange, Inc.; Order Granting Approval of Proposed Rule Change to Incorporate New PCX Rules Into Its Minor Rule Plan

December 17, 2003.

On July 8, 2003, the Pacific Stock Exchange, Inc. (“PCX” or “Exchange”) filed with the Securities and Exchange Commission (“Commission”), pursuant to section 19(b)(1) of the Securities Exchange Act of 1934 (“Act”) ¹ and Rule 19b-4 thereunder,² a proposed rule change to adopt new PCX Rules 10.13(h)(40)-(44) and 10.13(k)(i)(40)-(44) in order to incorporate five existing PCX rules into the Minor Rule Plan and Recommended Fine Schedule.

¹ 15 U.S.C. 78s(b)(1).

² 17 CFR 240.19b-4.

The proposed rule change was published for comment in the Federal Register on November 12, 2003.³ The Commission received no comments on the proposal.

³ See Securities Exchange Act Release No. 48746 (November 4, 2003), 68 FR 64182.

The Commission finds that the proposed rule change is consistent with the requirements of the Act and the rules and regulations thereunder applicable to a national securities exchange ⁴ and, in particular, the requirements of section 6 of the Act ⁵ and the rules and regulations thereunder. In particular, the Commission believes that the proposed rule change is consistent with section 6(b)(6) ⁶ of the Act because it should enable the Exchange to appropriately discipline its members and others associated with its members for violation of the provisions of this title, the rules or regulations thereunder, or the rules of the Exchange.

⁴ In approving this proposed rule change, the Commission has considered the proposed rule's impact on efficiency, competition, and capital formation. 15 U.S.C. 78c(f).

⁵ 15 U.S.C. 78f.

⁶ 15 U.S.C. 78f(b)(6).

In approving this proposed rule change, the Commission in no way minimizes the importance of compliance with these rules, and all other rules subject to the imposition of fines under the Exchange's minor rule violation plan. The Commission believes that the violation of any self-regulatory organization's rules, as well as Commission rules, is a serious matter. However, in an effort to provide the Exchange with greater flexibility in addressing certain violations, the Exchange's minor rule violation plan provides a reasonable means to address rule violations that do not rise to the level of requiring formal disciplinary proceedings. The Commission expects that the PCX will continue to conduct surveillance with due diligence, and make a determination based on its findings whether fines of more or less than the recommended amount are appropriate for violations of rules under the Exchange's minor rule violation plan, on a case by case basis, or if a violation requires formal disciplinary action.

In addition, the Commission notes that proposed rules 10.13(h)(40), 10.13(h)(41), and 10.13(h)(43) relate to market making obligations. The Commission believes that only the most technical and non-substantive violations of a market maker's obligations should be handled pursuant to a minor rule plan.⁷

⁷ See, e.g., Securities Exchange Act Release No. 27878 (April 14, 1990), 55 FR 13345, [SR-NYSE-89-44].

It is therefore ordered, pursuant to section 19(b)(2) of the Act,⁸ that the proposed rule change (SR-PCX-2003-32) be, and it hereby is, approved.

⁸ 15 U.S.C. 78s(b)(2).

For the Commission, by the Division of Market Regulation, pursuant to delegated authority.⁹
⁹ 17 CFR 200.30-3(a)(12).
Margaret H. McFarland,
Deputy Secretary.

[FR Doc. 03-31808 Filed 12-24-03; 8:45 am]

BILLING CODE 8010-01-P